NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on September 8-10, 2005, 11545 Rockville Pike, Rockville, Maryland. The date of this meeting was previously published in the Federal Register on Wednesday, November 24, 2004 (69 FR 68412).

Thursday, September 8, 2005, Conference Room T-2B3, Two White Flint North, Rockville, Maryland

8:30 a.m.-8:35 a.m.: Opening Remarks by the ACRS Chairman (Open)—The ACRS Chairman will make opening remarks regarding the conduct of the meeting.

8:35 a.m.-9:45 a.m.: Final Review of the License Renewal Application for Millstone Power Station, Units 2 and 3 (Open)—The Committee will hear presentations by and hold discussions with representatives of the Dominion Nuclear Connecticut, Inc. and the NRC staff regarding the license renewal application for Millstone Power Station, Units 2 and 3 and the associated Final Safety Evaluation Report prepared by the NRC staff.

10 a.m.-12 Noon: Interim Review of the Exelon/Clinton Early Site Permit Application (Open)—The Committee will hear presentations by and hold discussions with representatives of the Exelon Generation Company, LLC and the NRC staff regarding the Clinton early site permit application and the associated Draft Safety Evaluation Report prepared by the NRC staff.

1:30 p.m.-3:30 p.m.: Proposed Revision 4 to Regulatory Guide 1.82, “Water Sources for Long-Term Recirculation Cooling Following a Loss-of-Coolant Accident” (Open)—The Committee will hear presentations by and hold discussions with representatives of the NRC staff regarding proposed Revision 4 to Regulatory Guide 1.82 and the supporting Standard Review Plan, Section 6.2.2, “Containment Heat Removal Systems,” related to emergency core cooling system net positive suction head (NPSH) and the use of containment overpressure credit in calculating NPSH.

3:45 p.m.-5:45 p.m.: Possible Alternative Embrittlement Criteria to Those in 10 CFR 50.46 (Open)—The Committee will hear presentations by and hold discussions with representatives of the NRC staff, Electric Power Research Institute, and Framatome regarding possible alternative embrittlement criteria to those in 10 CFR 50.46, “Acceptance Criteria for Emergency Core Cooling Systems for Light-Water Nuclear Power Reactors,” and related matters.

6 p.m.-7 p.m.: Preparation of ACRS Reports (Open)—The Committee will discuss proposed ACRS reports on matters considered during this meeting as well as a proposed report on policy issues related to new plant licensing.

Friday, September 9, 2005, Conference Room T-2B3, Two White Flint North, Rockville, Maryland

8:30 a.m.-8:35 a.m.: Opening Remarks by the ACRS Chairman (Open)—The ACRS Chairman will make opening remarks regarding the conduct of the meeting.

8:35 a.m.-9:45 a.m.: Draft Final Updates to License Renewal Guidance Documents (Open)—The Committee will hear presentations by and hold discussions with representatives of the NRC staff regarding draft final updates to NUREG-1800, Revision 1, “Standard Review Plan for Review of License Renewal Applications for Nuclear Power Plants,” NUREG-1801, Revision 1, “Generic Aging Lessons Learned (GALL) Report,” Regulatory Guide 1.188, Revision 1, “Standard Format and Content for Applications to Renew Nuclear Power Plant Operating Licenses,” and NEI 95-10, Revision 6, “Industry Guidelines for Implementing the Requirements of 10 CFR Part 54—The License Renewal Rule,” which is endorsed by Regulatory Guide 1.188.

10 a.m.-12 Noon: Meeting with the EDO, Deputy EDOs, and NRC Program Office Directors (Open)—The Committee will hear presentations by and hold discussions with the NRC Executive Director for Operations (EDO), Deputy EDOs, Office Directors of Nuclear Reactor Regulation, Nuclear Regulatory Research, and Nuclear Material Safety and Safeguards regarding items of mutual interest.

1:30 p.m.-2:30 p.m.: Interim Results of the Quality Assessment of Selected NRC Research Projects (Open)—The Committee will discuss the interim results of the cognizant ACRS panel's quality assessment of the NRC research projects on: Standardized Plant Analysis Risk (SPAR) Models Development Program; Steam Generator Tube Integrity Program at the Argonne National Laboratory; and the Thermal-Hydraulic Test Program at the Penn State University.

2:30 p.m.-3:15 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

3:15 p.m.-3:30 p.m.: Reconciliation of ACRS Comments and Recommendations (Open)—The Committee will discuss the responses from the EDO to comments and recommendations included in recent ACRS reports and letters.

3:45 p.m.-7 p.m.: Preparation of ACRS Reports (Open)—The Committee will discuss proposed ACRS reports.

Saturday, September 10, 2005, Conference Room T-2B3, Two White Flint North, Rockville, Maryland

8:30 a.m.-3 p.m.: Preparation of ACRS Reports (Open)—The Committee will continue its discussion of proposed ACRS reports.

3 p.m.—3:30 p.m.: Miscellaneous (Open)—The Committee will discuss matters related to the conduct of Committee activities and matters and specific issues that were not completed during previous meetings, as time and availability of information permit.

Procedures for the conduct of and participation in ACRS meetings were published in the Federal Register on October 5, 2004 (69 FR 59620). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., e.t.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service. Individuals or organizations requesting this service will be responsible for telephone line charges and for providing the equipment and facilities that they use to establish the videoteleconferencing link. The availability of videoteleconferencing services is not guaranteed.

Dated: August 11, 2005
Andrew L. Bates,
Advisory Committee Management Officer.

[FR Doc. E5-4486 Filed 8-16-05; 8:45 am]

BILLING CODE 7590-01-P